DEPARTMENT OF TRANSPORTATION

Maritime Administration

[Docket No. MARAD-2010-0060]

Information Collection Available for Public Comments and Recommendations

ACTION: Notice and request for comments.

SUMMARY: In accordance with the Paperwork Reduction Act of 1995, this notice announces the Maritime Administration's (MARAD's) intention to request extension of approval for three years of a currently approved information collection.

DATES: Comments should be submitted on or before August 23, 2010.

FOR FURTHER INFORMATION CONTACT: Michael Gordon, Maritime Administration, 1200 New Jersey Avenue, SE., Washington, DC 20590. Telephone: 202-366-5468; or e-mail Michael.gordon@dot.gov. Copies of this collection also can be obtained from that office.

SUPPLEMENTARY INFORMATION: Maritime Administration (MARAD).

Title of Collection: America's Marine Highway Program.

Type of Request: Extension of currently approved information collection.

OMB Control Number: 2133-0541.

Form Numbers: None.

Expiration Date of Approval: Three years from date of approval by the Office of Management and Budget.

Summary of Collection of Information: The Department of Transportation is soliciting applications for Marine Highway Projects as specified in the America's Marine Highway Program Final Rule, MARAD-2010-0035, published in the Federal Register on April 9, 2010. These applications must comply with the requirements of the referenced America's Marine Highway Program Final Rule, and be submitted in accordance with the instructions contained in that Final Rule. This application period begins immediately upon publication of the Solicitation of Applications for Marine Highway Projects and is open through June 11, 2010.

Need and Use of the Information: The information will be used by the Maritime Administration to evaluate and review applications being submitted for project designation. The review will assess factors such as project scope, impact, public benefit, environmental effect, offsetting costs, cost to the government (if any), the likelihood of long-term self-supporting operations, and its relationship with Marine Highway Corridors once designated.

Description of Respondents: State, Local, or Tribal Government and Business or other for-profit.

Annual Responses: 20 responses.

Annual Burden: 200 hours.

Comments: Comments should refer to the docket number that appears at the top of this document. Written comments may be submitted to the Docket Clerk, U.S. DOT Dockets, Room W12-140, 1200 New Jersey Avenue, SE., Washington, DC 20590. Comments also may be submitted by electronic means via the Internet at http://www.regulations.gov/search/index.jsp. Specifically address whether this information collection is necessary for proper performance of the functions of the agency and will have practical utility, accuracy of the burden estimates, ways to minimize this burden, and ways to enhance the quality, utility, and clarity of the information to be collected. All comments received will be available for examination at the above address between 10 a.m. and 5 p.m. EDT (or EST), Monday through Friday, except Federal Holidays. An electronic version of this document is available on the World Wide Web at http://www.regulations.gov/search/index.jsp.

Privacy Act: Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://www.regulations.gov/search/index.jsp.

Authority: 49 CFR 1.66.

By Order of the Maritime Administrator.
Dated: June 17, 2010.
Julie Agarwal,
Acting Secretary, Maritime Administration.

[FR Doc. 2010-15116 Filed 6-22-10; 8:45 am]

BILLING CODE 4910-81-P